DEPARTMENT OF COMMERCE

Office of Administration

[Docket No. 090326470-9472-01]

Commerce Alternative Personnel System

AGENCY: Office of Administration, Office of Human Resources Management, Department of Commerce.

ACTION: Notice of Modifications to the Department of Commerce Alternative Personnel System.

SUMMARY: This notice announces changes made to the provisions of the Commerce Alternative Personnel System, formerly the Department of Commerce Personnel Management Demonstration Project, published in the Federal Register on December 24, 1997. Also, this notice adds a new occupational series of 2150, Transportation Operations series to the system, and moves the Consumer Safety 696 occupational series in the (ZP) Scientific and Engineering career path from the Administrative (ZA) career path.

DATES: The changes announced in this notice are implemented as of May 14, 2009.

FOR FURTHER INFORMATION CONTACT: Department of Commerce: Sandra Thompson, U.S. Department of Commerce, 14th and Constitution Avenue NW., Room 5004, Washington, DC 20230, (202) 482-3725 or Pamela Boyland at (202) 482-1068.

SUPPLEMENTARY INFORMATION:

1. Background

The Office of Personnel Management (OPM) approved the Department of Commerce (DoC) Demonstration Project (project) and published the final plan in the Federal Register Wednesday, December 24, 1997 (62 FR Pages 67434-67463). The project pursued several key objectives of the National Performance Review. The project was designed to simplify current classification systems for greater flexibility in: (1) Classifying work and paying employees; (2) establishing a performance management and rewards system for improving individual and organizational performance; and (3) improving recruiting and examining to attract highly-qualified candidates. The purpose of the project was to strengthen the contribution of human resources management and test whether the same innovations conducted under the National Institute of Standards and Technology alternative personnel system would produce similarly successful results in other DoC environments. The project was implemented on March 29, 1998. The project plan has been modified six times to clarify certain DoC Demonstration Project authorities, and to extend and expand the project (64 FR Pages 52810-52812 (September 30, 1999), 68 FR Pages 47948-47949 (August 12, 2003), 68 FR Pages 54505-54507 (September 17, 2003), 70 FR Pages 38732-38733 (July 5, 2005), 71 FR Pages 25615-25616 (May 1, 2006), and 71 FR Pages 50950-50952 (August 28, 2006)). With the passage of the Consolidated Appropriations Act, 2008, Public Law 110-161, on December 26, 2007, the project was made permanent (extended indefinitely) and renamed the Commerce Alternative Personnel System (CAPS).

The CAPS provides for modifications to be made as experience is gained, results are analyzed and conclusions are reached on how the system is working. This notice announces that the DoC modifies CAPS to add a new occupational series 2150, Transportation Operations series to the system, and moves the Consumer Safety 696 occupational series in the (ZP) Scientific and Engineering career path from the Administrative (ZA) career path.

The DoC will follow the CAPS plan as published in the Federal Register dated December 24, 1997, and subsequent modifications as listed in the Background Section of this notice.

Deborah A. Jefferson,
Deputy Chief Human Capital Officer and Director for Human Resources Management.

Table of Contents

I. Executive Summary

II. Basis for CAPS Modification

III. Changes to the Project Plan

I. Executive Summary

CAPS is designed to (1) improve hiring and allow DoC to compete more effectively for high-quality candidates through direct hiring, selective use of higher entry salaries, and selective use of recruitment incentives; (2) motivate and retain staff through higher pay potential, pay-for-performance, more responsive personnel systems, and selective use of retention incentives; (3) strengthen the manager's role in personnel management through delegation of personnel authorities; and (4) increase the efficiency of personnel systems through the installation of a simpler and more flexible classification system based on pay banding through reduction of guidelines, steps, and paperwork in classification, hiring, and other personnel systems, and through automation.

II. Basis for CAPS Modification

CAPS is designed to provide managers at the lowest organizational level the authority, control and flexibility to recruit, retain, develop, recognize, and motivate its workforce, while ensuring adequate accountability and oversight.

The National Oceanic and Atmospheric Administration (NOAA), Office of Marine and Aviation Operations has requested to add the Transportation Operations Series, 2150 to the Administrative (ZA) career path. The series covers duties of which are to administer, supervise, or perform work involving the planning, directing, or operating of rail, motor, air, or water transportation systems and service, including positions involving responsibility for operation of both transportation service and terminal facilities.

NOAA has requested that the 696 Consumer Safety Series be removed from the Administrative (ZA) career path and placed in the Scientific and Engineering (ZP) career path as the 696 occupational series is a professional and scientific position and has its own OPM Individual Occupational Requirements to be used in conjunction with OPM's Group Coverage Qualification Standards for Professional and Scientific Work. The change of this series to the (ZP) career path will have no impact on the pay, series, or pay band classification of employees in this series. A copy of this approved Federal Register notice will be provided to the affected employees prior to making the change effective.

III. Changes to the Project Plan

The CAPS at DoC, published in Federal Register (FR) Volume 62, Number 247, on Wednesday, December 24, 1997 is amended as follows:

1. The following series is added to Table 2

Administrative (ZA) Career Path, 2150, Transportation Operations Series.

2. The following series is moved from the Administrative (ZA) Career Path and placed in the

Scientific and Engineering (ZP) Career Path, 696, Consumer Safety Series.

[FR Doc. E9-11213 Filed 5-13-09; 8:45 am]

BILLING CODE 3510-03-P